DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Cross-Site Assessment of the Addiction Technology Transfer

Centers Network—(OMB No. 0930-0216, Revision—The Substance Abuse and Mental Health Administration's (SAMHSA) Center for Substance Abuse Treatment (CSAT) intends to continue an assessment of its Addiction Technology Transfer Centers (ATTCs). The data collection instruments are being modified, and the methodology will be updated to comply with CSAT's new Government Performance and Results Act (GPRA) requirements. CSAT is requiring all of its programs to use standard GPRA Customer Satisfaction forms for training, technical assistance and meeting events, approved by OMB under OMB control number 0930-0197. In response to these new requirements, the ATTC Network will modify the current evaluation tools to be in compliance, while still collecting information needed for the cross-site assessment.

The goal underlying the training and education opportunities provided through the ATTCs is to enhance the competencies of professionals in a variety of disciplines to address the clinical needs of individuals with substance abuse problems using research-based curricula and training materials through both traditional and non-traditional technologies.

The ATTCs disseminate current health services research from the National Institute on Drug Abuse, National Institute on Alcohol Abuse and Alcoholism, National Institute of Mental Health, Agency for Health Care Policy and Research, National Institute of Justice, and other sources and applied knowledge development activities from SAMHSA using innovative technologies by developing and updating state-of-the-art research-based curricula and developing faculty and trainers. Participants in ATTC events are self-identified and participate in either academic courses, continuing education/professional development training events, technical assistance or meetings. Academic courses are offered at all levels. Continuing education/professional development training is designed to meet identified needs of counselors and other professionals who work with individuals with substance abuse problems. A technical assistance is a jointly planned consultation generally involving a series of contacts between the ATTC and an outside organization/institution during which the ATTC provides expertise and gives direction toward resolving a problem or improving conditions. A meeting is an ATTC sponsored or co-sponsored event in which a group of people representing one or more agencies other than the ATTC work cooperatively on a project, problem, and/or a policy.

Both a process and an outcome assessment will be conducted. The process component will describe the training and education needs of pre-service and currently practicing professionals, the types of events that participants receive through the ATTCs, and their satisfaction with services. The outcome component will focus on changes in clinical practice made by participants as a result of knowledge received.

Analysis of this information will assist CSAT in documenting the numbers and types of participants in ATTC events, describing the extent to which participants improve in their clinical competency, and which method is most effective in disseminating knowledge to the various audiences. This type of information is crucial to support CSAT in complying with GPRA reporting requirements and will inform future development of knowledge dissemination activities.

The study design for trainees will include a description of each event, and a pre-post design that collects identical information at initiation of ATTC courses/trainings, at the completion of the course/training, and again after 30 days. For technical assistance and meeting events, there will be a description of each event and demographic information will be collected from participants before the event. In addition, the study will collect satisfaction measures after each event and at 30-day follow-up using the required GPRA forms. Follow-up forms will be sent to a sample of 25% of participants at events. The chart below summarizes the annualized burden for this project.

Respondent type | Number of respondents | Average responses/ respondent | Average Hours/ response | Total burden hours
Students/Trainees | 20,000 | 3 | .25 | 15,000
Faculty/Trainers | 200 | 1 | .25 | 50
ATTC Summary Reports | 15 | 4 | 2.00 | 120
Total | 20,215 |  |  | 15,170

Send comments to Nancy Pearce, SAMHSA Reports Clearance Officer, Room 16-105, Parklawn Building, 5600 Fishers Lane, Rockville, MD 20857. Written comments should be received within 60 days of this notice.

Dated: March 18, 2003.
Richard Kopanda,
Executive Officer, Substance Abuse and Mental Health Services Administration.

[FR Doc. 03-6895 Filed 3-21-03; 8:45 am]

BILLING CODE 4162-20-P